FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans. No. | Acquiring | Acquired | Entities
TRANSACTIONS GRANTED EARLY TERMINATION—01/14/2008
20080479 | Amazon.com, Inc | Bill Me Later, Inc | Bill Me Later, Inc.
20080494 | Duke Energy Corporation | Saluda River Electric Cooperative, Inc | Saluda River Electric Cooperative, Inc.
20080569 | CML Healthcare Income Fund | ARS Holding, Inc | ARS Holding Inc.
TRANSACTIONS GRANTED EARLY TERMINATION—01/15/2008
20080462 | Ms. Esther Koplowitz Romero de Juseu | Siemens Aktiengesellschaft | Hydrocarbon Recovery Services, Inc.
|  |  | International Petroleum Corp. of Delaware.
20080469 | Teradyne, Inc | Nextest Systems Corporation | Nextest Systems Corporation.
20080552 | Providence Equity Partners IV L.P | William L. Adamany | AGT Enterprises, Inc.
|  |  | Star-Iowa, LLC.
TRANSACTIONS GRANTED EARLY TERMINATION—01/16/2008
20080470 | Eisai Co., Ltd | MGI Pharma, Inc | MGI Pharma, Inc.
TRANSACTIONS GRANTED EARLY TERMINATION—01/17/2008
20080495 | KASLION S.a.r.L | Atlantic Bridge Ventures Holdings Limited | GloNav Inc.
20080519 | Appolo Investment Fund VI, L.P | GA Industries, Inc | GA Industries, Inc.
20080586 | Pfizer Inc | The Biotech Settlement | CovX Research LLC.
|  |  | CovX Technologies Ireland Limited.
TRANSACTIONS GRANTED EARLY TERMINATION—01/18/2008
20080537 | Financiere Asteel S.A. | Flash Electronics International | Flash Electronics Holding.
20080564 | Eli Lilly and Company | BioMS Medical Corp | BioMS Medical Corp.
20080587 | Alfa Mutual Insurance Company | Alfa Corporation | Alfa Corporation.
20080588 | Alfa Mutual Fire Insurance Company | Alfa Corporation | Alfa Corporation.
20080590 | Long Point Capital Fund, II, L.P | Avadhesh and Umarani Agarwal | UMS Enterprises, Inc.
20080598 | Gryphon Partners III, L.P | Accelerated Health Systems, LLC | Accelerated Health Systems, LLC.
20080606 | Lake Capital Partners II LP | Gary L. Fish | FishNet Security Holdings, Inc.
20080608 | Epicor Software Corporation | NSB Retail Systems PLC | NSB Retail Systems PLC.
TRANSACTIONS GRANTED EARLY TERMINATION—01/22/2008
20080522 | JANA Offshore Partners, Ltd | CNET Networks, Inc | CNET Networks, Inc.
20080563 | WuXi Pharma Tech (Cayman) Inc | AppTec Laboratory Services, Inc | AppTec Laboratory Services, Inc.
20080568 | BlueScope Steel Ltd | San Faustin N.V | Imsa Steel Corp.
20080591 | IFM Infrastructure Funds | Consolidated Edison, Inc | CED Generation Holding Company, LLC.
|  |  | CED Rock Springs, LLC.
|  |  | Consolidated Edison Energy.
|  |  | Massachusetts, LLC.
|  |  | Newington Energy, LLC.
|  |  | Ocean Peaking Power, LLC.
20080595 | Murat Ulker | Campbell Soup Company | Godiva Chocolatier, Inc.
20080597 | Oak Hill Capital Partners III, L.P | News Corporation | Fox Television Stations, Inc.
|  |  | New World Communications of Kansas City, Inc.
20080602 | Oracle Healthcare Acquisition Corp | Precision Therapeutics, Inc | Precision Therapeutics, Inc.
20080611 | Linn Energy, LLC | Gary W. and Constance S. Lewis | Lamamco Drilling Company.
20080612 | Linn Energy, LLC | Stanley J. and Sabrina L. Miller | Lamamco Drilling Company.
TRANSACTIONS GRANTED EARLY TERMINATION—01/23/2008
20080609 | Intuit Inc | Electronic Clearing House, Inc | Electronic Clearing House, Inc.
TRANSACTIONS GRANTED EARLY TERMINATION—01/24/2008
20080576 | American Securities Partners IV, L.P | Horizon Global Technology, Inc | Horizon Global Technology, Inc.
20080578 | MHR Institutional Partners III LP | Leap Wireless International, Inc | Leap Wireless International, Inc.
20080582 | Owl Creek Overseas Fund, Ltd | Leap Wireless International, Inc | Leap Wireless International, Inc.
20080600 | Jose Maria Rubiralta | Inova Diagnostics, Inc | Inova Diagnostics, Inc.
20080603 | Quik-Way Retail Associates Holdings II, Ltd | Royal Dutch Shell plc | Motiva Enterprises LLC.
20080604 | Quik-Way Retail Associates Holdings II, Ltd | Aramco Services Company | Motiva Enterprises LLC.
20080625 | Rock-Tenn Company | Steven Grossman | Southern Container Corporation.
TRANSACTIONS GRANTED EARLY TERMINATION—01/25/2008
20080571 | Leucadia National Corporation | AmeriCredit Corp | AmeriCredit Corp.
20080580 | Brush Engineered Materials, Inc | Techni-Met, Inc | Techni-Met, Inc.
20080607 | U.S. Bancorp | Gray M. Eng | Southern DataComm, Inc.
TRANSACTIONS GRANTED EARLY TERMINATION—01/28/2008
20080561 | Ralcorp Holdings, Inc | Kraft Foods Inc | Cable Holco, Inc.
20080584 | Georg Fischer AG | Phillip M. Pourchot | Central Plastics Company.
20080585 | Georg Fischer AG | Robert L. Pourchot | Central Plastics Company.
20080592 | Castlerigg International Limited | CNET Networks, Inc | CNET Networks, Inc.
20080632 | Hudson Group Holdings, Inc | Robert B. Cohen | Airport Management Services LLC.
|  |  | Hudson News Company.
|  |  | Hudson Retail Dallas LP.
|  |  | Hudson Retail Neu LaGuardia LP.
20080643 | A.B.C. Learning Centres Limited | Richard Sodja | CA-III, LLC.
|  |  | Capital Academic, LLC.
|  |  | T.T. McKellips, LLC.
20080644 | A.B.C. Learning Centres Limited | Cheryl L. Sodja | CA-III, LLC.
|  |  | Capital Academic, LLC.
|  |  | T.T. McKellips, LLC.
TRANSACTIONS GRANTED EARLY TERMINATION—01/29/2008
20080618 | HMTBP Holdings Inc | Robert W. Block, III and Nancy Block | Paragon Tank and Equipment, Inc.
|  |  | Pasadena Tank Corporation.
20080635 | The AES Corporation | Natural Gas Partners VIII, L.P | Mountain View Power Partners, LLC.
20080638 | The Crawford Group, Inc | Steward Ventures, Inc | Steward Ventures, Inc.
20080651 | Bourse de Montreal, Inc | Boston Options Exchange Group, LLC | Boston Options Exchange Group, LLC.
20080657 | Munchener Ruckversicherungs-Gesellschaft | Aon Corporation | Olympic Health Management Systems, Inc.
|  |  | Sterling Life Insurance Company.
20080662 | Windjammer Senior Equity Fund III, L.P | American Capital Strategies, Ltd | Pasternack Holdings, Inc.
TRANSACTIONS GRANTED EARLY TERMINATION—01/30/2008
20080596 | Harbinger Capital Partners Offshore Fund I, Ltd | The New York Times Company | The New York Times Company.
20080599 | Koninklijke Phillips Electronics N.V | Respironics, Inc | Respironics, Inc.
20080601 | Genzyne Corporation | Isis Pharmaceuticals, Inc | Isis Pharmaceuticals, Inc.
20080622 | DTE Energy Company | Shenango Incorporated | Shenango Incorporated.
20080628 | SemGroup Energy Partners, L.P | SemGroup, L.P | SemMaterials Energy Partners, L.L.C.
20080634 | Sun Capital Partners V, L.P | Kellwood Company | Kellwood Company.
20080641 | ArcLight Energy Partners Fund III, L.P | Robert E. Parker | R.E. Parker Equipment, Co.
|  |  | Repcon, Inc.
|  |  | Repcon International Inc.
|  |  | Repcon Properties, LLC.
TRANSACTIONS GRANTED EARLY TERMINATION—01/31/2008
20080629 | Ingersoll-Rand Company Limited | Trane Inc | Trane Inc.
20080636 | ETIRC Aviation, S.a.r.l. | Eclipse Aviation Corporation | Eclipse Aviation Corporation.
TRANSACTIONS GRANTED EARLY TERMINATION—02/01/2008
20080575 | Cobham plc | BAE Systems plc | BAE Systems Information & Electronic Systems Integration Inc.
20080639 | Kirk Kerkorian | Delta Petroleum Corporation | Delta Petroleum Corporation.
20080647 | EMCORE Corporation | Intel Corporation | Intel Corporation.
20080661 | ACE Limited | Aon Corporation | Combined Insurance Company of America.
20080664 | AmTrust Financial Services, Inc | Unitrin, Inc | Milwaukee Casualty Insurance Co.
|  |  | Security National Insurance Company.
|  |  | Trinity Lloyd's Corporation.
|  |  | Trinity Lloyd's Insurance Company.
|  |  | Trinity Universal Insuance Company of Kansas, Inc.
20080665 | Elisabeth Murdoch | Ben Silverman | Ben Silverman Productions LLC.
|  |  | Reveille, LLC.
|  |  | Reveille Motion Pictures, LLC.
20080671 | Kenan Advantage Group Holdings Corp | John V. Crowe III | Transport Service Co.
20080675 | ConAgra Foods, Inc | Donald R. Watts | Watts Brothers Farming, LLC.
|  |  | Watts Brothers Farms, LLC.
|  |  | Watts Brothers Fertilizer, Inc.
20080676 | E Com Ventures, Inc | Model Reorg, Inc | Model Reorg., Inc.
20080678 | North American Insurance Leaders, Inc. | David J. and Teresa Disiere | Deep South Holding, L.P.
20080685 | GSI Commerce, Inc | e-Dialog, Inc | e-Dialog, Inc.
TRANSACTIONS GRANTED EARLY TERMINATION—02/04/2008
20080579 | Husky Energy Inc | Toledo Refinery LLC | Toledo Refinery LLC.
20080593 | E. Merck OGH | Idera Pharmaceuticals, Inc | Idera Pharmaceuticals, Inc.
20080659 | UnitedHealth Group Incorporated | Three Rivers Holdings, Inc | Three Rivers Holdings, Inc.
20080666 | Marc S. Hermelin | Hologic, Inc | Cytyc Prenatal Products Corp.
TRANSACTIONS GRANTED EARLY TERMINATION—02/05/2008
20080645 | The Goldman Sachs Group, Inc. | Total System Services, Inc | Total System Services, Inc.
20080654 | Owl Creek Overseas Fund, Ltd | MetroPCS Communications, Inc | MetroPCS Communications, Inc.
TRANSACTIONS GRANTED EARLY TERMINATION—02/06/2008
20080637 | Owl Creek Overseas Fund, Ltd | Foundation Coal Holdings, Inc | Foundation Coal Holdings, Inc.
TRANSACTIONS GRANTED EARLY TERMINATION—02/07/2008
20080621 | Siemens Aktiengesellschaft | Morgan Construction Company Voting Trust | Morgan Construction Company.
20080623 | Cooper Industries, Ltd | MTL Instruments Group plc | MTL Instruments Group plc.
20080673 | Sun Microsystems, Inc | MySQL AB | MySQL AB.
TRANSACTIONS GRANTED EARLY TERMINATION—02/11/2008
20080073 | Carmeuse Holding S.A. | Oglebay Norton Company | Oglebay Norton Company.
20080694 | Diageo plc | Ronsenblum Cellars, Inc. | Ronsenblum Cellars, Inc.
20080701 | Axcel III K/S 2 | Pandora Jewelry America ApS | Pandora Jewely america ApS.
20080702 | Saputo Inc | Alto Dairy Cooperative | Alto Dairy Cooperative.
20080716 | Arsenal Capital Partners Qualified Purchaser II LP | Charter Brokerage Holdings, LLC | Charter Brokerage Holdings, LLC.
20080718 | Vestar Capital Partners, V, L.P | American Securities Partners III, L.P | c/o American Securities Capital Partners, LLC.
|  |  | PGA HOLDINGS, INC.
20080720 | Wilmington Trust Corporation | George & Renee Karfunkel | AST Capital Trust Company of Delaware.
20080721 | Bain Capital Fund X, L.P | Bright Horizons Family Solutions, Inc | Bright Horizons Family Solutions, Inc.
20080723 | Wilmington Trust Corporation | Michael Karfunkel & Leah Karfunkel | AST Capital Trust Company of Delaware.
TRANSACTIONS GRANTED EARLY TERMINATION—02/12/2008
20080653 | Bayside Opportunity Fund, L.P | HD Supply, Inc | Williams Bros. Lumber Co., LLC.
20080689 | Edward J. Ivy and Kimberly H. Cohen | Commercial Markets Holdco, Inc | Auto-C, LLC.
|  |  | JohnsonDiversey, Inc.
TRANSACTIONS GRANTED EARLY TERMINATION—02/13/2008
20080452 | M & F Worldwide Corp | Pearson plc | Newco LLC.
20080686 | Blum Strategic Partners IV, L.P | CB Richard Ellis Group, Inc | CB Richard Ellis Group, Inc.
20080715 | The Timken Company | Charles K. Elder, III | Boring Specialties, Inc.
20080717 | Pace Micro Technology PLC | Koninklijkle Philips Electronics N.V | Philips Home Networks France S.A.S.
TRANSACTIONS GRANTED EARLY TERMINATION—02/15/2008
20080726 | Teva Pharmaceuticals Industries Ltd | CoGenesys, Inc | CoGenesys, Inc.

For Further Information Contact: Sandra M. Peay, Contact Representative; or Renee Hallman, Contact Representative; Federal Trade Commission, Premerger Notification Office, Bureau of Competition, Room H-303, Washington, DC 20580, (202) 326-3100.

By Direction of the Commission.
Donald S. Clark,
Secretary.

[FR Doc. 08-832 Filed 2-25-08; 8:45 am]

BILLING CODE 6750-01-M